DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 13, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service

Title: Corn and Soybean Grower Survey.

OMB Control Number: 0536-NEW.

Summary of Collection: 0536-NEW. The proposed data collection will use a survey of corn and soybean farmers in the Midwestern U.S. to study farmers' preferences for participating in programs that support cover cropping and gather new information about current cover cropping practices. The survey will use questions on contract enrollment to examine how contract flexibility, ease of applying, payments, and other aspects of cover crop contracts affect farmers' willingness to enroll their corn and soybean fields in cover crop programs. Results will be compared between farmers with no history of cover cropping in Federal programs and those who have cover cropped in Federal Programs.

Need and Use of the Information: USDA agencies are interested in supporting the long-run adoption of climate smart conservation practices such as cover crops. There are multiple Federal, state, and private programs that support planting cover crops. This study will provide information about current use of cover crops as well as what influences participation on programs for cover crops. Data will be used for research purposes and only reported in the aggregate. The information provided by this study will benefit farmers, non-governmental organizations, and industry stakeholders as well as policymakers and program managers at the local, State, Tribal, and National levels.

Description of Respondents: Individuals.

Number of Respondents: 2,500.

Frequency of Responses: One time.

Total Burden Hours: 2,411 hours.

Levi S. Harrell,
Departmental Information Collection Clearance Officer.

[FR Doc. 2024-26252 Filed 11-12-24; 8:45 am]

BILLING CODE 3410-18-P